DEPARTMENT OF AGRICULTURE

Submission for OMB Review; Comment Request

February 11, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers and Stockyards Administration

Title: Guidelines for Preparation of Research Proposal.

OMB Control Number: 0580-0014.

Summary of Collection: The Grain Inspection, Packers and Stockyards Administration (GIPSA) is responsible for establishment of grain standards which accurately describe the quality of grain being traded and for the uniform application of these standards in a nationwide inspection system. GIPSA maintains an external research program under which research scientists are invited to submit research grant proposals which include the objectives of the proposed work; application of the proposed work to the grain inspection system; the procedures, equipment, personnel, etc., that will be used to reach the project objectives; the costs of the project, a schedule for completion; qualifications of the investigator and the grantee organization; and a listing of all other sources of financial support for the project.

Need and Use of the Information: The information collected is used by GIPSA to determine the projects that would address the highest priority problems. The information is also critical for ensuring that the proposed projects are technically feasible and that the sponsoring organizations have the resources to support the project including personnel with the appropriate technical capabilities.

Description of Respondents: State, local or tribal government; Business or other for-profit; Not-for-profit institutions.

Number of Respondents: 2.

Frequency of Responses: Reporting: On occasion.

Total Burden Hours: 40.

Ruth Brown,
Departmental Information Collection Clearance Officer.

[FR Doc. 05-2970 Filed 2-15-05; 8:45 am]

BILLING CODE 3410-KD-M